DEPARTMENT OF HEALTH AND HUMAN SERVICES

Centers for Disease Control and Prevention

Disease, Disability, and Injury Prevention and Control Special Emphasis Panel (SEP): Secondary Review

In accordance with Section 10(a)(2) of the Federal Advisory Committee Act (Pub. L. 92-463), the Centers for Disease Control and Prevention (CDC) announces a meeting for the secondary review of applications in response to Funding Opportunity Announcements (FOAs), CE17-001, Research Using Linked Data to Understand Motor Vehicle Injury Among Older Adults; and CE17-002, Development and Evaluation of Sports Concussion Prevention Strategies.

Time and Date: 8:00 a.m.-5:00 p.m., EDT, June 8, 2017 (Closed).

Place: Teleconference.

Status: The meeting will be closed to the public in accordance with provisions set forth in Section 552b(c)(4) and (6), Title 5 U.S.C., and the Determination of the Director, Management Analysis and Services Office, CDC, pursuant to Public Law 92-463.

Matters for Discussion: The meeting will include the secondary review, discussion, and evaluation of applications received in response to FOAs “Research Using Linked Data to Understand Motor Vehicle Injury Among Older Adults”, CE17-001; and “Development and Evaluation of Sports Concussion Prevention Strategies”, CE17-002.

Contact Person for More Information: Gwendolyn H. Cattledge, Ph.D., M.S.E.H., Deputy Associate Director for Science, National Center for Injury Prevention and Control, CDC, 4770 Buford Highway NE., Mailstop F-63, Atlanta, Georgia 30341, Telephone (770) 488-1430.

The Director, Management Analysis and Services Office, has been delegated the authority to sign Federal Register notices pertaining to announcements of meetings and other committee management activities, for both the Centers for Disease Control and Prevention and the Agency for Toxic Substances and Disease Registry.

Elaine L. Baker,
Director, Management Analysis and Services Office, Centers for Disease Control and Prevention.

[FR Doc. 2017-09711 Filed 5-12-17; 8:45 am]

BILLING CODE 4163-18-P